DEPARTMENT OF COMMERCE

Patent and Trademark Office

Agency Information Collection Activities; Submission to the Office of Management and Budget (OMB) for Review and Approval; Comment Request; Patent and Trademark Resource Center Metrics

AGENCY: United States Patent and Trademark Office, Department of Commerce.

ACTION: Notice of information collection; request for comment.

SUMMARY: The United States Patent and Trademark Office, in accordance with the Paperwork Reduction Act of 1995, invites comments on the extension and revision of an existing information collection: 0651-0068 (Patent and Trademark Resource Center Metrics). The purpose of this notice is to allow 60 days for public comment preceding submission of the information collection to OMB.

DATES: To ensure consideration, comments regarding this information collection must be received on or before February 16, 2021.

ADDRESSES: Interested persons are invited to submit written comments by any of the following methods. Do not submit Confidential Business Information or otherwise sensitive or protected information:

• Email: InformationCollection@uspto.gov. Include “0651-0068 comment” in the subject line of the message.

• Federal Register Portal: https://www.regulations.gov.

• Mail: Kimberly Hardy, Office of the Chief Administrative Officer, United States Patent and Trademark Office, P.O. Box 1450, Alexandria, VA 22313-1450.

FOR FURTHER INFORMATION CONTACT: Requests for additional information should be directed to the attention of Robert Berry, Manager, Patent and Trademark Resource Center Program, Office of the Chief Information Officer, United States Patent and Trademark Office, P.O. Box 1450, Alexandria, VA 22313-1450; by telephone at 571-272-7152; or by email at Robert.Berry@uspto.gov. Additional information about this information collection is also available at http://www.reginfo.gov under “Information Collection Review.”

SUPPLEMENTARY INFORMATION:

I. Abstract

The Patent and Trademark Resource Center (PTRC) Program is authorized under the provision of 35 U.S.C. 2(a)(2), which provides that the United States Patent and Trademark Office (USPTO) shall be responsible for disseminating information with respect to patents and trademarks to the public. The PTRC Program is made up of public, state, and academic libraries. Each participating library designated as a PTRC must fulfill the following requirements: Assist the public in the efficient use of patent and trademark information resources; provide free access to patent and trademark resources provided by the USPTO; and send representatives to attend the USPTO-hosted PTRC training seminars.

The USPTO seeks to collect information about the public's use of the PTRCs and training provided through the PTRC system. The PTRC Program requirements stipulate that all participating libraries must submit periodic metrics on the public's use of the PTRC's services and the public outreach efforts provided by the PTRCs. To facilitate this requirement, the USPTO electronically collects the metrics on a quarterly basis. This information collection enables the USPTO to see how current customers are being served by the PTRCs and ascertain what changes may be needed in the types of services and trainings the PTRCs should offer.

II. Method of Collection

The metrics will be submitted electronically to the USPTO.

III. Data

OMB Control Number: 0651-0068.

Forms: None.

Type of Review: Revision of a currently approved information collection.

Affected Public: Private Sector; State and Local Governments.

Estimated Number of Respondents: 90 respondents per year. The USPTO estimates that there will be up to 90 libraries reporting their metrics once per quarter, resulting in a total of 360 responses per year. This estimate includes possible growth in the PTRC program above the 83 libraries that are currently reporting.

Estimated Time per Response: The USPTO estimates that it will take the public approximately 30 minutes (0.5 hours) to complete a response, depending on the complexity of the particular item. This includes the time to gather the necessary information, create the documents, and submit the completed request to the USPTO.

Estimated Total Annual Respondent Burden Hours: 180 hours.

Estimated Total Annual Respondent Cost Burden: $5,927.

¹ Bureau of Labor Statistics Occupation Employment Statistics wage 25-4022 for Librarians and Media Collections Specialists working in Colleges, Universities, and Professional Schools. https://www.bls.gov/oes/current/oes254022.htm.

² Bureau of Labor Statistics Occupation Employment Statistics wage 25-4022 for Librarians and Media Collections Specialists working in Colleges, Universities, and Professional Schools. https://www.bls.gov/oes/current/oes254022.htm.

Table 1—Total Hourly Burden for Private Sector Respondents
Item No. | Item | Estimated annual respondents | Estimated annual responses (year) | Estimated time for response (hours) | Estimated annual burden (hour/year) | Rate ¹ ($/hour) | Estimated annual respondent cost burden
|  |  | (a) | (b) | (c) | (d) | (e)
|  |  |  |  | (a) × (b) = (c) |  | (c) × (d) = (e)
1 | PTRC Metrics | 4 | 16 | 0.5 (30 minutes) | 8 | $32.93 | $263
Total |  | 4 | 16 |  | 8 |  | 263

Table 2—Total Hourly Burden For State, Local, and Tribal Government Respondents
Item No. | Item | Estimated annual respondents | Estimated annual responses (year) | Estimated time for response (hours) | Estimated annual burden (hour/year) | Rate ² ($/hour) | Estimated annual respondent cost burden
|  |  | (a) | (b) | (c) | (d) | (e)
|  |  |  |  | (a) × (b) = (c) |  | (c) × (d) = (e)
1 | PTRC Metrics | 86 | 344 | 0.5 (30 minutes) | 172 | $32.93 | $5,664
Total |  | 86 | 344 |  | 172 |  | 5,664

Estimated Total Annual Non-Hour Respondent Cost Burden: $0. There are no filing fees, capital start-up, maintenance, operation, or postage costs associated with this information collection.

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information; including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment—including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2020-27784 Filed 12-16-20; 8:45 am]

BILLING CODE 3510-16-P